DEPARTMENT OF HOUSING AND URBAN DEVELOPMENT

[Docket No. FR-5030-C-1A]

Notice of HUD's Fiscal Year (FY) 2006 Notice of Funding Availability, Policy Requirements and General Section to SuperNOFA for HUD's Discretionary Grant Programs; Correction

AGENCY: Office of the Secretary, HUD.

ACTION: Super Notice of Funding Availability (SuperNOFA) for HUD Discretionary Grant Programs; Correction.

SUMMARY: On March 8, 2006, HUD published its Fiscal Year (FY) 2006 SuperNOFA (SuperNOFA), for HUD's Discretionary Grant Programs. This document makes corrections to the Resident Opportunity and Self-Sufficiency (ROSS) Elderly/Persons with Disabilities Program, ROSS Family and Homeownership Program, the Public Housing Neighborhood Networks, and the Public and Indian Housing Family Self-Sufficiency Program Coordinators Under Resident Opportunities and Self-Sufficiency (Public Housing Family Self-Sufficiency) Program. The technical correction published today announces the addition of funds available for the above listed NOFAs for FY2006 from previously unobligated FY2004 and FY2005 funds. As a result of this additional funding, today's notice also increases the maximum grant amount available for ROSS Elderly/Persons with Disabilities, ROSS Family and Homeownership, and Public Housing Neighborhood Networks programs. Today's notice also makes a number other minor clarifications and corrections to these programs as published in the March 8, 2006, SuperNOFA. These changes affect the NOFAs listed and the corresponding Instruction Downloads on Grants.gov, but do not affect the application packages.

DATES: The application submission date for the Public and Indian Housing Family Self-Sufficiency Program Coordinators Under Resident Opportunities and Self-Sufficiency (ROSS) Program is extended to June 28, 2006. The application submission date for the Public Housing Neighborhood Networks is extended to July 21, 2006. The application dates for the other programs corrected by this document remain the same. Please see the individual program NOFAs for the applicable deadline date as published in the SuperNOFA on March 8, 2006.

FOR FURTHER INFORMATION CONTACT: For the programs listed in this notice, please contact the office or individual listed under Section VII of the individual program sections of the SuperNOFA, published on March 8, 2006.

SUPPLEMENTARY INFORMATION: On March 8, 2006 (71 FR 11712), HUD published its Notice of HUD's Fiscal Year (FY) 2006, SuperNOFA for HUD's Discretionary Grant Programs. The FY2006 SuperNOFA announced the availability of approximately $2.2 billion in HUD assistance. This notice published in today's Federal Register makes technical corrections to the ROSS Elderly/Persons with Disabilities Program, the ROSS Family and Homeownership Program, Public Housing Neighborhood Networks Program, and the Public and Indian Housing Family Self-Sufficiency Program Coordinators Under ROSS Program.

Today's notice announces the availability of additional funds for the ROSS Elderly/Persons with Disabilities Program, the ROSS Family and Homeownership Program, the Public Housing Neighborhood Networks Programs, and the Public and Indian Housing Family Self-Sufficiency Program Coordinators Under ROSS Program. Today's notice also announces increases to the maximum grant amounts for the ROSS Elderly/Persons with Disabilities, ROSS Family and Homeownership and Public Housing Neighborhood Networks programs.

HUD has determined that FY2004 and FY2005 funding remains unobligated for the ROSS Elderly/Persons with Disabilities, ROSS Family and Homeownership, Public Housing Neighborhood Networks and Public Housing Family Self Sufficiency programs. As a result, HUD is adding these unobligated funds to its FY2006 ROSS competitions. Specifically, HUD will add approximately $25 million funds to the ROSS Family and Homeownership Program, making a total of approximately $43 million available for this program's FY2006 competition. HUD will also add approximately $6 million its ROSS Elderly/Persons with Disabilities Program, making approximately $16 million available for this program in FY2006. In its Public Housing Neighborhood Networks program, HUD will add approximately $9.5 million to the $7.5 million made available by the SuperNOFA published on March 8, 2006, for a new total of $17 million. Finally, HUD will add approximately $3 million of unobligated funds to the approximately $10 million available through this year's Public Housing Family Self Sufficiency program, for a total of $13 million.

HUD has determined that this unobligated funding resulted from a number of factors. For example, HUD was unable to award grant funds because approximately 30 percent of applicants for assistance under the ROSS RSDM Elderly/Persons with Disabilities Program, the ROSS RSDM Family Program, ROSS Homeownership Supportive Services Program, and the Public Housing Neighborhood Networks Program failed to meet the statutorily required 25 percent match threshold. Applicants produced letters describing the match that they secured, but did not meet the NOFA requirements that required that they be on official letterhead, signed, and dated within two months of the deadline. Applicants also failed to delineate the value of the services that would be provided or proposed activities that were ineligible to qualify as match. To address this issue, HUD committed a significant portion of its outreach and webcasts to ensure that applicants understand the requirements. In addition, HUD has clarified and expanded the section of this year's NOFAs pertaining to the eligible and ineligible match activities, especially in the ROSS Elderly/Persons with Disabilities Program, to ensure that partnerships that make a program more comprehensive are able to be counted toward the required match.

Significant funds remained from last year's Homeownership Supportive Services (HSS) Program, which has been combined this year with the Family Program to create the ROSS Family and Homeownership NOFA. Approximately 45 percent of HSS applicants failed to meet the threshold requirement of committing vouchers and/or voucher program slots for the proper number of participants. Applicants submitting an application that fails to meet a threshold requirement are ineligible to receive a grant. In order to increase the likelihood of awarding these funds to deserving applicants HUD eliminated this requirement for the ROSS Family and Homeownership NOFA. Instead, HUD will award points for this element to those applicants who show a commitment connect their residents to homeownership opportunities. HUD believes that the combined ROSS Family and Homeownership NOFA will increase the likelihood of awarding available funds.

These funds are being made available for FY2006 in the amounts indicated below for each grant program. Since the available funding has increased, the award amounts available have been returned to FY2005 levels.

Summary of Technical Corrections

Summaries of the technical corrections made by this document follow. The page number shown in brackets identifies where the individual funding availability announcement that is being corrected can be found in the March 8, 2006, SuperNOFA. The technical correction described in today's Federal Register will also be reflected in the application instructions located on Grants.gov/Apply. Applicants must read the instruction download located on Grants.gov/Apply prior to submitting their application in order to receive all parts of the application.

Resident Opportunity and Self-Sufficiency (ROSS) Elderly/Persons with Disabilities Program [11913]

On page 11914, Overview Information, section G.2., second column, HUD is correcting the funding amount available. A total of approximately $16 million, comprised of $10 million in FY2006 and $6 million in FY2004 and FY2005 funding, is available for ROSS Elderly/Persons with Disabilities Program.

On page 11914, Overview Information, section G.6., first column and third column, HUD is correcting this section to correct the funding amount available, to reflect revised maximum funding amounts, and to modify the portion of grant funds that can be used for the salaries and fringe benefits of a Project Coordinator.

On page 11916, section II.B.1.a., second column, HUD is correcting the total funding amount announced by this NOFA. The correct amount is $16 million.

On page 11916, section II.B.1., second column, chart, HUD is correcting the maximum funding available to applicants, which depends on the number of conventional units occupied by Elderly and Persons with Disabilities.

On page 11916, section II.B.1.b, second column, HUD is correcting the maximum grant award for each Resident Association (RA). The maximum grant award for each RA is $125,000.

On page 11916, section II.B.1.c., second column into third column, HUD is correcting the amount of funding a nonprofit organization can receive in FY2006 ROSS Elderly/Disabled grant funding. A nonprofit organization receiving support from an RA is limited to $125,000 for each RA and may submit a single application for no more than three different RAs from the same PHA. The maximum amount of funding a nonprofit organization can be awarded is $375,000.

On page 11918, section III.C.2.c., second column, HUD is changing its policy regarding Contract Administrator Partnership Agreements. This paragraph is being revised to allow incomplete agreements to be treated as a technical deficiency rather than a failure to meet a threshold requirement, resulting in the application not receiving further consideration for funding.

On page 11921, section IV.E.2.b., first column, HUD is correcting this paragraph to increase the amount of assistance that may be used to pay the annual salary and fringe benefits of the project coordinator. HUD also clarifies that if a project coordinator receives a salary that is lower than the maximum ($65,000), the difference may be used for other eligible activities.

On page 11921, section IV.E.4, second column, HUD is clarifying the subsection.

On page 11923, section V.A.1.b.(2), first column, HUD is correcting the amount of funding that may be used to pay the annual salary and fringe benefits to a Project Coordinator, raising the amount from $50,000 to $65,000. Also, HUD is deleting the following language from this subsection, “As indicated in the chart at the beginning of the NOFA, applicants must not propose to use more than the specified amount of funds for delivery of services.”

On page 11923, section V.A.1.c.(1)(c), third column, HUD is adding a new subsection (iv), which reminds applicants that the budget form HUD-424CBW requires that a separate 424-CBW form be submitted for each sub-grant or contract that is 10% or more of the total amount requested. If the separate 424-CBW form is not included in the application applicants risk losing all points for “Budget Appropriateness/Efficient Use of Grant” and if the sub-grants or contract is for 50% or more of the grant awards applicants would lose all points for Rating Factor 3, Soundness of Approach.

Resident Opportunity and Self-Sufficiency (ROSS) Family and Homeownership Program [11927]

On page 11928, Overview Information, section G.2., second column, HUD is correcting the funding amount available. A total of approximately $43 million is available for ROSS in FY2006, which is comprised of $18 in FY2006 funds and $25 million from previously unobligated funds.

On page 11928, Overview Information, section G.3., second column, HUD is correcting the range of award amounts available to applicants. Awards, depending on the grant category, unit count, and type of grantee will range from $250,000 to $1,000,000.

On page 11928, Overview Information, section G.6., third column entitled, “Grant Term”, HUD is correcting the chart to reflect the changes in the amount of funding available and the maximum grant amount possible, which depends on the unit count and type of grantee.

On page 11930, section II.A.5., second column into third column, HUD is correcting subsection 5, Total Funding, in its entirety. Each component of subsection 5 and both charts are being revised to reflect the additional funding that is being made available under this program.

On page 11933, section III.C.2.c., second column, HUD is changing its policy regarding Contract Administrator Partnership Agreements. This paragraph is being revised to allow incomplete agreements to be treated as a technical deficiency rather than a failure to meet a threshold requirement, resulting in the application not receiving further consideration for funding.

On page 11936, section IV.E.6, second column, HUD is clarifying the subsection explaining funding requests that are in excess of the maximum grant amount. If a grant is awarded, a HUD Field Office will work with the grantee to re-apportion the grant funds for only eligible activities that were proposed in the original application, as long as it does not impact the basis on which points were awarded.

On page 11938, section V.A.1.c.(1)(c), second column, HUD is adding a new subsection (iii), which reminds applicants that the budget form HUD-424CBW requires that a separate 424-CBW form be submitted for each sub-grant or contract that is 10% or more of the total amount requested. If the separate 424-CBW form is not included in the application applicants risk losing all points for “Budget Appropriateness/Efficient Use of Grant” and if the sub-grants or contract is for 50% or more of the grant awards applicants would lose all points for Rating Factor 3, Soundness of Approach.

Public Housing Neighborhood Networks Program [11942]

On page 11943, Overview Information, section F., second column, HUD is extending the application deadline date to July 21, 2006.

On page 11943, Overview Information, section G.2., second column into third column, HUD is correcting the funding amount available. A total of approximately $17 million is available for Neighborhood Networks program in FY2006, which is comprised of approximately $7.5 in FY2006 funds and approximately $9.5 in previously unobligated funds.

On page 11943, Overview Information, section G.3., third column, HUD is correcting the range of award amounts available to applicants. Awards will range from $150,000 to $600,000.

On page 11943, Overview Information, section G.6., third column, HUD is correcting the chart to reflect the changes in the amount of funding available and the maximum grant amount possible, depending on the grant category, unit count, and type of grantee.

On page 11944, section II.A., Introduction, third column, HUD is correcting the amount of total funding available.

On page 11945, section II.A.2.a. and b., first column, HUD is correcting the Funding Levels for Existing and New Centers to reflect the increase in funding available.

On page 11946, section III.C.1.c., first column, HUD is changing its policy regarding Contract Administrator Partnership Agreements. This paragraph is being revised to allow incomplete agreements to be treated as a technical deficiency rather than a failure to meet a threshold requirement, resulting in the application not receiving further consideration for funding.

On page 11946, section III.C.4., third column, HUD is correcting the subsection dealing with eligible participants to make it consistent with the 2006 Appropriations Act.

On page 11947, section IV.C.1., second column into third column, HUD is extending the application deadline date to July 21, 2006.

On pages 11947 and 11948, section IV.E.3, third column into first column of the next page, HUD is clarifying the subsection explaining funding requests that are in excess of the maximum grant amount. If a grant is awarded, a HUD Field Office will work with the grantee to re-apportion the grant funds for only eligible activities that were proposed in the original application, as long as it does not impact the basis on which points were awarded.

On page 11950, section V.A.1.c.(1)(c), second column, HUD is adding a new subsection (iii), which reminds applicants that the budget form HUD-424CBW requires that a separate 424-CBW form be submitted for each sub-grant or contract that is 10% or more of the total amount requested. If the separate 424-CBW form is not included in the application applicants would lose all points for “Budget Appropriateness/Efficient Use of Grant” and if the sub-grants or contract is for 50% or more of the grant awards applicants would lose all points for Rating Factor 3, Soundness of Approach.

Public and Indian Housing Family Self-Sufficiency Program Coordinators Under Resident Opportunities and Self-Sufficiency (ROSS) Program [11954]

On page 11955, Overview Information, section F., first column, HUD is correcting the application deadline date. The new application deadline date is June 28, 2006.

On page 11955, Overview Information, section G.2., first column, HUD is correcting the funding amount available. A total of approximately $13 million is available for the Public and Indian Housing Family Self-Sufficiency Program Coordinators Under Resident Opportunities and Self-Sufficiency (ROSS) program in FY2006, which is comprised of $10 million in FY2006 funds and $3 million from previously unobligated funds.

On page 11956, section II.A., second column, HUD is correcting the first sentence of the paragraph to reflect the additional funding that is available. The NOFA is announcing the availability of approximately $13 million in FY2006 to employ Family Self-Sufficiency program coordinators for the Public and Indian Housing Family Self-Sufficiency Program Coordinators Under Resident Opportunities and Self-Sufficiency (ROSS) program.

On page 11957, section III.C.2.d., second column, HUD is changing its policy regarding Contract Administrator Partnership Agreements. This paragraph is being revised to allow incomplete agreements to be treated as a technical deficiency rather than a failure to meet a threshold requirement, resulting in the application not receiving further consideration for funding.

HUD is taking advantage of the opportunity provided this technical correction to advise applicants that form HUD-52767 has been modified so that it is consistent with the NOFA. The NOFA defines “The Number of PH FSS Program Participants” as “The total number of families shown in HUD's PIC data system as enrolled in the applicant's PH FSS program on the publication date of this NOFA, plus the number of families that successfully completed their PH FSS contracts in the applicant's program between October 1, 2000 and the publication date of this NOFA.” However, the form HUD-52767 question 9b defines it as “The total number of families shown in HUD's PIC data system as enrolled in the applicant's PH FSS program on the application due date of this NOFA, plus the number of families that successfully completed their PH FSS contracts in the applicant's program between October 1, 2000 and the application due date of this NOFA.” Applicants must follow the definition contained in the NOFA. Form HUD-52767, as modified, is available for re-download in the Instructions Download on grants.gov.

Accordingly, in the Notice of HUD's Fiscal Year (FY) 2006, Notice of Funding Availability (NOFA), Policy Requirements to the SuperNOFA for HUD's Discretionary Grant Programs, beginning at 71 FR 11712, in the issue of March 8, 2006, the following corrections are made.

1. Resident Opportunity and Self-Sufficiency (ROSS) Elderly/Persons With Disabilities Program, beginning on page 11913:

On page 11914, Overview Information, section G.2., second column, is corrected to read as follows:

2. Funding Available. A total of approximately $16 million is available for ROSS Elderly/Persons with Disabilities grants in fiscal year 2006. The funding available includes approximately $10 million from this year's appropriations and approximately $6 million from previously unobligated funds.

On page 11914, Overview Information, section G.3., second column into third column, is corrected to read as follows:

3. Award Amounts. Awards, depending on the grant category, unit count, and type of grantee, will range from $125,000 to $450,000. Grant awards must be used in two ways: One portion for the salaries and fringe benefits of a Project Coordinator; and one portion for direct delivery of a supportive service to the targeted elderly/disabled resident population. Please see the funding breakdown chart below.

On page 11914, Overview Information, section G.6., third column, is corrected to read as follows:

6. Grant term. The grant term is three years from the execution date of the grant agreement.

Grant program | Total funding | Eligible applicants | Maximum grant amount (units refers to the number of units occupied by elderly/disabled as indicated on ROSS Fact Sheet (HUD-52751))
ROSS Elderly/Persons with Disabilities | $16 million | PHAs | $250,000 for with 1-217 units. $350,000 for PHAs with 218-1,155 units. $450,000 for PHAs with 1,156 or more units.
|  | Resident Associations | $125,000
|  | Non-profit entities | $125,000 per RA; maximum award is 375,000.
|  | Tribes/TDHEs | $250,000 for Tribes/TDHEs with 1-217 units. $350,000 for Tribes/TDHEs with 218-1,155 units. $450,000 for Tribes/TDHEs with 1,156 or more units.

Grant awards must be used in two ways: One portion for the salaries and fringe benefits of a Project Coordinator; and one portion for direct delivery of high priority supportive services to the targeted elderly/disabled resident population. The applicant may use up to $65,000 maximum per year and in accordance with local wage standards (see Funding Restrictions) for the salary and fringe benefits of a Project Coordinator. Additionally, the applicant may use funds for delivery of services. The application must demonstrate (in rating factor 2) that these services are of a high priority for the targeted elderly/disabled residents and that another funding source is not available, therefore meriting funding under this grant.

On page 11916, section II.B.1., Total Funding, second and third columns, is corrected to read as follows:

1. Total Funding. The Department expects to award $16,000,000 under this funding category of ROSS.

Awards will be made as follows:

a. PHAs must use the number of conventional public housing units occupied by elderly and disabled residents as of September 30, 2005, per their budget to determine the maximum grant amount they are eligible for in accordance with the categories listed below. PHAs should clearly indicate the number of conventional public housing units occupied by elderly and disabled residents under their Annual Contributions Contract on the Fact Sheet.

Number of conventional units occupied by elderly and persons with disabilities | Maximum funding
1-217 units | $250,000
217-1,155 units | 350,000
1,156 or more units | 450,000

b. The maximum grant award is $125,000 for each RA.

c. Nonprofits are eligible applicants if they are representing or acting at the behest of an RA. Accordingly, nonprofit applicants must show support from that RA. Nonprofit organizations that have support from an RA are limited to $125,000 for each RA. A nonprofit organization may submit a single application for no more than three different RAs from the same PHA. A nonprofit organization may not receive more than $375,000 in FY 2006 ROSS Elderly/Disabled grant funding. Nonprofit organizations may submit more than one application provided they target residents of distinct PHAs or tribes/TDHEs. In cases where nonprofit applicants are not able to obtain support from RAs, they must obtain letters of support from PHAs and/or tribes/TDHEs and they may also submit a letter of support from one or more of the following: Resident Advisory Boards (RABs), local civic organizations, or units of local government.

Note: All nonprofit applicants that do not include a letter of support from an RA must include a letter of support from a PHAs or tribes/TDHEs. Please see Threshold Requirements for more information Support letters must indicate the developments to be served by the nonprofit organization. Funding for nonprofit applicants that do not receive letters of support from RAs will be determined as follows. Support letters must indicate the developments to be served by the nonprofit organization as well as the number of conventional public housing units occupied by elderly and persons with disabilities.

Number of conventional units occupied by elderly and persons with disabilities | Maximum funding
1-217 units | $250,000
217-1,155 units | 350,000
1,156 or more units | 450,000

Applicants should see the General Section of the SuperNOFA for instruction on submitting support letter and other documentation with their electronic application.

d. Tribes/TDHEs should use the number of units occupied by elderly and persons with disabilities counted as Formula Current Assisted Stock for Fiscal Year 2005 as defined in 24 CFR 1000.316. Tribes/TDHEs are eligible for the same amounts as PHAs within each category in (a) above. Tribes that have not previously received funds from the Department under the 1937 Housing Act should count housing units under management that are owned and operated by the Tribe, identified in their housing inventory as of September 30, 2005, and occupied by elderly/disabled residents. Tribes should clearly indicate the number of units under management occupied by elderly/disabled residents in their Fact Sheet.

On page 11918, section III.C.2.c., second column, is corrected to read as follows:

c. Contract Administrator Partnership Agreement. All nonprofit applicants, all RAs, and troubled PHAs (troubled as of the application deadline) are required to submit a signed Contract Administrator Partnership Agreement. The agreement must be for the entire grant term. If an applicant that is required to have a Contract Administrator Partnership Agreement submits an incomplete Agreement this will be treated as a technical deficiency. See the General Section for more information on Corrections to Deficient Applications. See the Definitions, and Program Requirements Sections of this NOFA for more information on Contact Administrators. See the General Section for instructions on submitting the information electronically.

Troubled PHAs are not eligible to be contract administrators. Grant writers who assist applicants in preparing their ROSS applications are also ineligible to be contract administrators.

On page 11921, section IV.E.2.b., first column, is corrected to read as follows:

b. Project Coordinator. All applicants may propose to hire a qualified Project Coordinator to run the grant program. The ROSS-Elderly/Persons with Disabilities program will fund up to $65,000 in combined annual salary and fringe benefits for a full-time Project Coordinator. Applicants may propose a part-time Project Coordinator at a lesser salary. For audit purposes, applicants must have documentation on file demonstrating that the salary and fringe benefits of the Project Coordinator are comparable to similar professions in their local area.

On page 11921, section IV.E.4., second column, is corrected to read as follows:

4. Funding Requests in Excess of Maximum Grant Amount. Applicants that request funding in excess of the maximum grant amount which they are eligible to receive will be given consideration only for the maximum grant for which they are eligible. If awarded a grant, the grantee will work with the Field Office to re-apportion the grant funds for eligible activities proposed in the original application, as long as it does not impact the basis on which points were awarded.

On page 11923, section V.A.1.b.(2), first column, is corrected to read as follows:

(2) Demonstrated Link Between Proposed Activities and Local Need (15 points). Applicants' narrative must demonstrate a clear relationship between proposed activities, community needs, and the purpose of the program funding in order for points to be awarded for this factor. Grant awards must be used in two ways: One portion for the salaries and fringe benefits of a Project Coordinator; and one portion for direct delivery of high priority supportive services to the targeted elderly/disabled resident population. The applicant must, in the narrative for this rating factor, describe the service needs of the target residents, show which service needs are already being met by local resources and which service needs the applicant is unable to meet using existing resources, and demonstrate that these services are of a high priority for the targeted elderly/disabled residents and that another funding source is not available, thereby meriting funding under this program. The applicant may also indicate a need for a Project Coordinator, which it may pay up to $65,000 maximum per year from grant funds for salary and fringe benefits in accordance with local wage standards (see Funding Restrictions).

On page 11923, section V.A.1.c.(1)(c)(iv), third column, add the following new paragraph:

(iv) Please note that the budget form HUD-424CBW requires that a separate 424-CBW form be submitted for each sub-grant or contract of 10% or more of the requested grant amount. If an applicant proposes to sub-grant or contract 10% or more of the requested grant amount and does not include a separate 424-CBW for each 10% or more sub-grant or contract, all points for Budget Appropriateness/Efficient Use of Grant will be lost. If 424-CBW for sub-grants or contracts for 50% or more of the requested grant amount are not included, the application will lose all points for Rating Factor 3, Soundness of Approach.

2. Resident Opportunity and Self-Sufficiency (ROSS) Family and Homeownership Program, beginning on page 11927:

On page 11928, Overview Information, section G.2., second column, is corrected to read as follows:

2. Funding Available: A total of approximately $43 million is available for ROSS in fiscal year 2006. The funding available includes approximately $18 million from this year's appropriations and approximately $25 million from previous unobligated funds.

On page 11928, Overview Information, section G.3., second column, is corrected to read as follows:

3. Award Amounts: Awards, depending on the unit count and type of grantee, will range from $250,000 to $1,000,000. Please see the program description for more specific information about funding amounts.

On page 11928, Overview Information, section G.6., third column entitled, “Grant term”, is corrected to read as follows:

6. Grant term. The grant term for each funding category is three years from the execution of the grant agreement.

Grant program | Total funding | Eligible applicants | Maximum grant amount (units refers to the number of units occupied by elderly/disabled as indicated on ROSS Fact Sheet (HUD-52751))
ROSS Family and Homeownership | $43 million | PHAs/Tribes/TDHEs | $250,000 for 1-780 units. $350,000 for 781-2,500 units. $500,000 for 2,501-7,300. $1,000,000 for 7,301 or more units.
|  | Resident Associations | $125,000
|  | Non-profit entities | $125,000 per RA; maximum award is $375,000.

On page 11930, section II.A.5., second column into third column, is corrected to read as follows:

5. Total Funding. The Department expects to award approximately $43,000,000 under this funding category of ROSS. Awards are to be made as follows:

a. PHAs must use the number of occupied conventional family public housing units as of September 30, 2005, per their budget to determine the maximum grant amount they are eligible for in accordance with the categories listed below. (Use HUD-51751 ROSS Fact Sheet.) Applicants should clearly indicate on the Fact Sheet the number of eligible units under their Annual Contributions Contract.

Number of occupied family conventional units | Maximum funding for PHAs/Tribes/TDHEs
1-780 units | $250,000
781-2,500 units | 350,000
2,500-7,301 units | 500,000
7,301 or more units | 1,000,000

b. The maximum grant award is $125,000 for each RA.

c. Nonprofit organizations that have resident support or the support of tribes or RAs are limited to $125,000 for each RA. A nonprofit organization may submit a single application for no more than three different RAs from the same PHA for a maximum grant award of $375,000. Nonprofit organizations may submit more than one application provided they target residents of distinct PHAs or tribes/TDHEs. The maximum funds that may be awarded to any nonprofit applicant is $375,000 overall. In cases where nonprofit applicants are not able to obtain support from RAs, they must obtain letters of support from PHAs or tribes/TDHEs and they may also submit letters from one or more of the following: Resident Advisory Boards (RABs), local civic organizations, or units of local government. Note: All nonprofit applicants that do not include letters of support from RAs must include a letter of support from PHAs or tribes/TDHEs. (Please see Threshold Requirements for more information.) Support letters must indicate the developments to be served by the nonprofit organization.

Funding for nonprofit applicants that do not receive letters of support from RAs will be determined as follows (support letters from PHAs must indicate the developments to be served by the nonprofit organization as well as the number of occupied conventional family public housing in those developments):

Number of conventional units | Maximum funding for non-profits with support letters from PHAs (not RAs)
1-2,500 units | $125,000
2,500-7,300 units | 250,000
7,301 or more units | 375,000

Applicants should see the General Section for instructions on submitting support letters and other documentation with their electronic application.

d. Tribes/TDHEs should use the number of units counted as Formula Current Assisted Stock for Fiscal Year 2005 as defined in 24 CFR part 1000.316. Tribes/TDHEs are eligible for the same amounts as PHAs within each category in (a) above. Tribes that have not previously received funds from the Department under the U.S. Housing Act of 1937 should count housing units under management that are owned and operated by the Tribe and are identified in their housing inventory as of September 30, 2005, for family units. Tribes should clearly indicate the number of units under management occupied by elderly/disabled residents in their Fact Sheet.

On page 11933, section III.C.2.c., second column, is corrected to read as follows:

c. Contract Administrator Partnership Agreement. All nonprofit applicants, all RAs, and troubled PHAs (troubled as of the application publication date) are required to submit a signed Contract Administrator Partnership Agreement. The agreement must be for the entire grant term. If an applicant that is required to have a Contract Administrator Partnership Agreement submits an incomplete Agreement this will be treated as a technical deficiency. See the General Section for more information on Corrections to Deficient Applications. See the Definitions and Program Requirements Sections of this NOFA for more information on Contract Administrators. See the General Section for instructions on submitting the information with your electronic application.

Troubled PHAs are not eligible to be contract administrators. Grant writers who assist applicants in preparing their ROSS applications are also ineligible to be contract administrators.

On page 11936, section IV.E.6, second column, is corrected to read as follows:

6. Funding Requests in Excess of Maximum Grant Amount. Applicants that request funding in excess of the maximum grant amount which they are eligible to receive will be given consideration only for the maximum grant for which they are eligible. If awarded a grant, the grantee will work with the Field Office or Area ONAP to re-apportion the grant funds for eligible activities proposed in the original application, as long as it does not impact the basis on which points were awarded.

On page 11938, section V.A.1.c.(1)(c)(iii), second column, add the following new paragraph:

(iii) Please note that the budget form HUD-424CBW requires that a separate 424-CBW form be submitted for each sub-grant or contract of 10% or more of the requested grant amount. If an applicant proposes to sub-grant or contract 10% or more of the requested grant amount and does not include a separate 424-CBW for each 10% or more sub-grant or contract, all points for Budget Appropriateness/Efficient Use of Grant will be lost. If 424-CBW for sub-grants or contracts for 50% or more of the requested grant amount are not included, the application will lose all points for Rating Factor 3, Soundness of Approach.

3. Public Housing Neighborhood Networks Program, beginning on page 11942:

On page 11943, Overview Information, section F., second column, delete “June 23, 2006” and replace with “July 21, 2006.”

On page 11943, Overview Information, section G.2., second column into third column, is corrected to read as follows:

2. Funding Available: The Department plans to award approximately $17,000,000 under the Neighborhood Networks program in Fiscal Year 2006. The funding available includes approximately $7.5 million from this year's appropriations and approximately $9.5 million from previous unobligated funds.

On page 11943, Overview Information, section G.3., third column, is corrected to read as follows:

3. Award Amounts: Awards will range from $150,000 to $600,000. Please see the program description for more specific information about funding amounts.

On page 11943, Overview Information, section G.6., entitled, “Grant term”, third column, is corrected to read as follows:

6. Grant term. The grant term is three years from the execution date of the grant agreement.

Grant program | Total funding | Eligible applicants | Maximum grant amount
Neighborhood Networks | $17 million | PHAs—existing centers | $150,000 for 1-780 units. $200,000 for 781-2,500 units. $250,000 for 2,501-7,300 units. $300,000 for 7,301 or more units.
|  | PHAs—new centers | $300,000 for 1-780 units. $400,000 for 781-2,500 units. $500,000 for 2,501-7,300 units. $600,000 for 7,301 or more units.

On page 11944, Section II.A., Introduction, is corrected to read as follows:

A. Total Funding

The Department expects to award approximately a total of $17,000,000 under the Neighborhood Networks program for Fiscal Year 2006. Awards will be made as follows:

On page 11945, section II.A.2.a., is corrected to read as follows:

a. Funding Levels for Existing Centers:

Number of conventional units | Maximum funding
1-780 units | $150,000
780-2,500 units | 200,000
2,501-7,300 units | 250,000
7,301 or more units | 300,000

On page 11945, section II.A.2.b., is corrected to read as follows:

b. Funding Levels for New Centers:

Number of conventional units | Maximum funding
1-780 units | $300,000
780-2,500 units | 400,000
2,501-7,300 units | 500,000
7,301 or more units | 600,000

On page 11946, section III.C.2.c., first column, is corrected to read as follows:

c. Contract Administrator Partnership Agreement. PHAs that are troubled at the time of application are required to submit a signed Contract Administrator Partnership Agreement. The agreement must be for the entire grant term. Grant awards must have a signed Contract Administrator Partnership Agreement included in the application. If an applicant that is required to have a Contract Administrator Partnership Agreement submits an incomplete Agreement this will be treated as a technical deficiency. See the General Section for more information on Corrections to Deficient Applications.

Troubled PHAs are not eligible to be contract administrators. Grant writers who assist applicants in preparing their Neighborhood Networks applications are also ineligible to be contract administrators. Please see the General Section, Definitions Section, and Program Requirements Section for instructions for more information.

On page 11946, section III.C.4., third column, is corrected to read as follows:

4. Eligible Participants

All program participants must be residents of public housing or residents of other housing assisted with funding made available under the 2006 Appropriations Act or any other Act (e.g., residents receiving tenant-based or project-based voucher assistance, as well as elderly and disabled residents).

On page 11947, section IV.C.1., second column into third column, delete “June 23, 2006” and replace with “July 21, 2006.”

On pages 11947 and 11948, section IV.E.3, third column into first column of the next page, is corrected to read as follows:

3. Funding Requests in Excess of Maximum Grant Amount. Applicants that request funding in excess of the maximum grant amount which they are eligible to receive will be given consideration only for the maximum grant for which they are eligible. If awarded a grant, the grantee will work with the Field Office to re-apportion the grant funds for eligible activities proposed in the original application, as long as it does not impact the basis on which points were awarded.

On page 11950, section V.A.1.c.(1)(c)(iii), first column, is corrected to read as follows: (iii) Please note that the budget form HUD-424CBW requires that a separate 424-CBW form be submitted for each sub-grant or contract of 10% or more of the requested grant amount. If an applicant proposes to sub-grant or contract 10% or more of the requested grant amount and does not include a separate 424-CBW for each 10% or more sub-grant or contract, all points for Budget Appropriateness/Efficient Use of Grant will be lost. If 424-CBW for sub-grants or contracts for 50% or more of the requested grant amount are not included, the application will lose all points for Rating Factor 3, Soundness of Approach.

4. Public and Indian Housing Family Self-Sufficiency Program Coordinators Under Resident Opportunities and Self-Sufficiency (ROSS) Program, beginning at page 11954:

On page 11955, Overview Information, section F., first column, delete “June 8, 2006” and replace with “June 28, 2006.”

On page 11955, Overview Information, section G.2., first column, is corrected to read as follows:

2. Funding Available

The Department expects to award a total of approximately $13 million in FY2006. The funding available includes approximately $10 million from this year's appropriations and approximately $3 million from previously unobligated funds.

On page 11956, section II.A., second column, the first sentence is corrected to read as follows:

This NOFA announces the availability of approximately $13 million in FY2006 to employ FSS program coordinators for the PH FSS program.

On page 11957, section III.C.2.d., second column, is corrected to read as follows:

d. Troubled PHAs—Contract Administrator Partnership Agreement. PHAs that are troubled at the time of application are required to submit a signed Contact Administrator Partnership Agreement. The agreement must be for the entire grant term. The grant award shall be contingent upon having a signed Partnership Agreement included in the application. If an applicant that is required to have a Contract Administrator Partnership Agreement fails to submit one, this will be treated as a technical deficiency. See the General Section for more information on Corrections to Deficient Applications. The Contract Administrator must ensure that the financial management system and procurement procedures that will be in place during the grant term will fully comply with 24 CFR part 85. Troubled PHAs are not eligible to be contract administrator. Grant writers who assist applicants to prepare their FSS application are ineligible to be Contact Administrators.

Dated: May 19,2006.
Paula O. Blunt,
General Deputy Assistant Secretary for Public and Indian Housing.

[FR Doc. 06-4864 Filed 5-22-06; 2:42 pm]

BILLING CODE 4210-67-P